DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed collection extension of the Work Opportunity Tax Credit (WOTC) Program and the Welfare-to-Work (WtW) Tax Credit's reporting and administrative forms, the Third Edition of ETA Handbook No. 408, the proposed Training and Employment Guidance Letter (TEGL), “Planning Guidelines for Employment Service (ES) Fiscal Year 2002 Cost Reimbursable Grants for the Work Opportunity Tax Credit Program and the Welfare-to-Work Tax Credit,” and the Technical Assistance (TA) and Review Guide. A copy of the proposed information collection request (ICR) can be obtained by contacting the office listed below in the addressee section of this notice.

DATES: Written comments must be submitted to the office listed in the addressee's section below on or before July 9, 2002.

ADDRESSES: Gay M. Gilbert, Division Chief, U.S. Employment Service/ALMIS, Office of Workforce Security, U.S. Department Of Labor, 200 Constitution Ave., NW., Room C-4514, Washington, DC 20210, (202) 693-3428 (this is not a toll-free number) and, at: ggilbert@doleta.gov and/or fax number: 202/693-2874. The proposed program forms and related materials can also be accessed at: http://www.usworkforce.org

SUPPLEMENTARY INFORMATION:

I.

Data collected on the WOTC and the WtW Tax Credits will be collected by the State Workforce Agencies (SWAs) and provided to the U.S. Employment Service/ALMIS Division, Office of Workforce Security, Washington, DC, through the appropriate Department of Labor regional offices. The data will be used, primarily, to supplement IRS Form 8850. This data will help expedite the processing of employer requests for Certifications generated through IRS Form 8850 or issuance of Conditional Certifications (CCs) and employer requests for Certifications as a result of hiring individuals who have received SWAs' or participating agencies' generated CCs. The data will also help streamline SWAs' mandated verification activities, aid and expedite the preparation of the quarterly reports, and provide a significant source of information for the Secretary's Annual Report to Congress on the WOTC program. The data recorded through the use of these forms will also help in the preparation of an annual report to the Committee House of Ways and Means of the U.S. House of Representatives. Also, the plans submitted by the states will tell the regional and national offices how the states plan to administer the WOTC and the WtW tax credits and use the funds allocated to them. Finally, the data obtained through the use of the Technical Assistance and Review Guide will help the Regional Coordinators determine if the states are administering the tax credits in compliance with the reauthorizing legislation, the IRS Code of 1986, as amended and the Program Handbook. If the findings show any deviation from the plan or deficiencies, the Regional Coordinator will be able to plan, coordinate and deliver remedial assistance with the National and corresponding State Coordinators to affected existing and new staff members.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

III. Current Actions

• The Work Opportunity and Welfare-to-Work Tax Credits' reporting and administrative forms expire June 30, 2002. Pub. L. 107-147 reauthorized these two tax credits through December 31, 2003. Because the Congress reauthorizes these tax credits regularly for periods that range between one and three years, we are requesting a 3-year expiration date from approval date to continue the existing collection of information.

• Further, the Government Paperwork Elimination Act (GPEA) of 1998 (Public Law 105-277) requires that, when feasible, Federal agencies design and implement the use of automated systems that facilitate the electronic signature and filing of forms (by participants) to conduct official business with the public by 2003. To comply with this requirement, ETA is currently working with a contractor to develop an electronic reporting system for the tax credits' program. The electronic system will transfer the WOTC and WtW quarterly reports to ETA's Enterprise Information Management System (EIMS). The EIMS is a web-based system that will allow states to meet the reporting responsibilities in a more efficient manner while reducing the reporting burden on the state, regional and national levels. Through this system, states will have the choice of manually entering or electronically uploading the required quarterly data for Reports 1, 2 and 3 (ETA Forms 9057, 9058 and 9059). Implementation of the new system is targeted for the reports due in the regional offices 25 days after the end of the July 1, 2002 to September 30, 2002 period. The new electronic reporting system is expected to reduce burden hours by 25 percent.

Type of Review: Extension.

Agency: Employment and Training Administration.

Title: Work Opportunity Tax Credit (WOTC) and Welfare-to-Work Tax (WtW) Credit.

OMB Number: 1205-0371.

Agency Number: ETA Forms 9057-59; 9061-63 and 9065.

Affected Public: State, Local or Tribal Government.

State Burden:

Cite/reference | Total respondents | Frequency | Total ¹ responses | Average time/ response | Burden ²
Form 9057 | 52 | Quarterly | 208 | 6 hours | 1248
Form 9058 | 52 | Quarterly | 208 | 6 hours | 1248
Form 9059 | 52 | Quarterly | 208 | 6 hours | 1248
Form 9062 | 52 | As needed | 40 | 6 hours | 240
Form 9063 | 52 | As needed | 1000 | 45 mins | 750
Form 9065 | 52 | Quarterly | 208 | 6 hours | 1248
Record keeping | 52 | Annually | 52 | 931 hours | 41844
TA & Review Guide | 52 | Annually | 52 | 8 hours | 416
TEGL No. ## Planning Guidance | 52 | One time | 52 | 8 hours | 416
TEGL No. ## Planning Guidance Modification | 52 | As needed | 52 | 1 hour | 52
Total |  |  | 2080 |  | ³ 49910
¹ Numbers of “Total Responses” and “Average Time/Response” are only estimates and were obtained by calling several States and asking for the best possible estimates.
² Also, these numbers represent a 25% decrease in burden hours from those submitted for the 2001 OMB Package. The decrease is the direct result of the new Electronic Information Systems (EIMS) to be in place for the Fourth Quarter Reports due 25 days after the end of the July 1, 2001—September 20, 2002 period.
³ This grand total includes the 1200 burden hours for ETA Form 9061.

Employer/Consultants and Job Seekers
Cite/ reference | Total respondents | Frequency | Total responses | Burden
Form 9061 | 200 | 5 days | 6 hours | 1200

Total Burden Hours: 49910.

Total Burden Cost (capital/startup): 0.

Total Burden Cost (operating/maintaining): 0.

Comments submitted in response to this comment request will be summarized and/or included in the request for Office of Management and Budget approval of this information collection request. They will also become a matter of public record.

Dated: April 30, 2002.
Grace A. Kilbane,
Administrator, Office of Workforce Security, Labor.

[FR Doc. 02-11705 Filed 5-9-02; 8:45 am]

BILLING CODE 4510-30-P